DEPARTMENT OF HEALTH AND HUMAN SERVICES

Centers for Disease Control and Prevention (CDC)

Advisory Committee for Injury Prevention and Control, Centers for Disease Control and Prevention: Notice of Charter Renewal

This gives notice under the Federal Advisory Committee Act (Pub. L. 92-463) of October 6, 1972, that the charter for the Advisory Committee for Injury Prevention and Control of the Centers for Disease Control and Prevention, Department of Health and Human Services, has been renewed for a 2-year period, through October 28, 2004.

For further information, contact Louise Galaska, Executive Secretary, Advisory Committee for Injury Prevention and Control, Centers for Disease Control and Prevention, of the Department of Health and Human Services, 4770 Buford Highway, NE., M/S K02, Atlanta, Georgia 30341, telephone 770/488-4694 or fax 770/488-1670.

The Director, Management Analysis and Services Office, has been delegated the authority to sign Federal Register notices pertaining to announcements of meetings and other committee management activities, for both the Centers for Disease Control and Prevention and the Agency for Toxic Substances and Disease Registry.

Dated: October 31, 2002.
John Burckhardt,
Acting Director, Management Analysis and Services Office, Centers for Disease Control and Prevention.

[FR Doc. 02-28451 Filed 11-7-02; 8:45 am]

BILLING CODE 4163-19-P